DEPARTMENT OF HEALTH AND HUMAN SERVICES

Food and Drug Administration

21 CFR Part 558

New Animal Drugs for Use in Animal Feeds; Melengestrol and Tylosin

AGENCY: Food and Drug Administration, HHS.

ACTION: Final rule; technical amendment.

SUMMARY: The Food and Drug Administration (FDA) is amending the animal drug regulations to reflect approval of an abbreviated new animal drug application (ANADA) filed by Ivy Laboratories, Division of Ivy Animal Health, Inc. The ANADA provides for use of single-ingredient Type A medicated articles containing melengestrol and tylosin to make two-way combination Type C medicated feeds for heifers fed in confinement for slaughter.

DATES: This rule is effective May 12, 2006.

FOR FURTHER INFORMATION CONTACT: Daniel A. Benz, Center for Veterinary Medicine (HFV-104), Food and Drug Administration, 7500 Standish Pl., Rockville, MD 20855, 301-827-0223, e-mail: daniel.benz @fda.hhs.gov.

SUPPLEMENTARY INFORMATION: Ivy Laboratories, Division of Ivy Animal Health, Inc., 8857 Bond St., Overland Park, KS 66214, filed ANADA 200-427 for use of HEIFERMAX 500 (melengestrol acetate) Liquid Premix and TYLAN (tylosin phosphate) single-ingredient Type A medicated articles to make two-way combination Type C medicated feeds for heifers fed in confinement for slaughter. Ivy Laboratories' ANADA 200-427 is approved as a generic copy of Pharmacia and Upjohn Co.'s new animal drug application (NADA) 139-192 for combination use of MGA 500 (melengestrol acetate) Liquid Premix and TYLAN in cattle feed. The application is approved as of April 19, 2006, and the regulations are amended in 21 CFR 558.342 to reflect the approval. The basis of approval is discussed in the freedom of information summary.

In addition, FDA has found that the April 1, 2005, edition of title 21, parts 500 to 599 of the Code of Federal Regulations (CFR) does not accurately reflect the approved conditions of use for melengestrol and tylosin. This error was inadvertently included in the 2002 codification of a supplement for the pioneer application (67 FR 47687, July 22, 2002). At this time, § 558.342 is being amended to correct this error. This action is being taken to improve the accuracy of the regulations.

In accordance with the freedom of information provisions of 21 CFR part 20 and 21 CFR 514.11(e)(2)(ii), a summary of safety and effectiveness data and information submitted to support approval of this application may be seen in the Division of Dockets Management (HFA-305), Food and Drug Administration, 5630 Fishers Lane, rm. 1061, Rockville, MD 20852, between 9 a.m. and 4 p.m., Monday through Friday.

The agency has determined under 21 CFR 25.33(a)(2) that this action is of a type that does not individually or cumulatively have a significant effect on the human environment. Therefore, neither an environmental assessment nor an environmental impact statement is required.

This rule does not meet the definition of “rule” in 5 U.S.C. 804(3)(A) because it is a rule of “particular applicability.” Therefore, it is not subject to the congressional review requirements in 5 U.S.C. 801-808.

List of Subjects in 21 CFR Part 558

Animal drugs, Animal feeds.

Therefore, under the Federal Food, Drug, and Cosmetic Act and under authority delegated to the Commissioner of Food and Drugs and redelegated to the Center for Veterinary Medicine, 21 CFR part 558 is amended as follows:

PART 558—NEW ANIMAL DRUGS FOR USE IN ANIMAL FEEDS

1. The authority citation for 21 CFR part 558 continues to read as follows:

Authority: 21 U.S.C. 360b, 371.

§ 558.342 [Amended]

2. In § 558.342, amend the table in paragraphs (e)(1)(vii) and (e)(1)(ix) in the “Limitations” column in entry “3.” by removing “(from a dry Type A article)”, and in the table in paragraph (e)(1)(ix) in the “Sponsor” column by numerically adding “021641”.

Dated: May 4, 2006.
Stephen F. Sundlof,
Director, Center for Veterinary Medicine.

[FR Doc. 06-4426 Filed 5-11-06; 8:45 am]

BILLING CODE 4160-01-S